FEDERAL MARITIME COMMISSION

National Shipper Advisory Committee June 2025 Meeting

AGENCY: Federal Maritime Commission.

ACTION: Notice of Federal advisory committee meeting.

SUMMARY: Notice is hereby given of a meeting of the National Shipper Advisory Committee (NSAC or Committee), pursuant to the Federal Advisory Committee Act. The Committee advises the Federal Maritime Commission (Commission). The meeting will be held for the purpose of soliciting and discussing information, insight, and expertise pertaining to conditions in the ocean freight delivery system relevant to the Commission.

DATES: The Committee will meet in person in Garden City, Georgia, on June 4, 2025, from 1 p.m. until 3 p.m. eastern time. Please note that this meeting may adjourn early if the Committee has completed its business.

ADDRESSES: The meeting will be held at the Georgia Port Authority located at 2 Main Street, Garden City, Georgia 31408. This meeting will be open to the public. Members of the public do not need to register to attend the NSAC meeting. The meeting will also stream virtually. If technical issues prevent the Committee from streaming live, the Committee will post a recording of the meeting on the Commission's YouTube channel following the meeting.

FOR FURTHER INFORMATION CONTACT: Mr. Mark Bragança, Designated Federal Officer of the National Shipper Advisory Committee, phone: (202) 523-5725; email: mbraganca@fmc.gov.

SUPPLEMENTARY INFORMATION:

Background: The National Shipper Advisory Committee is a Federal advisory committee. It operates under the provisions of the Federal Advisory Committee Act, 5 U.S.C. app., and 46 U.S.C. chapter 425. The Committee was established on January 1, 2021, when the National Defense Authorization Act for Fiscal Year 2021 became law. Public Law 116-283, sec. 8604, 134 Stat. 3388 (2021). The Committee provides information, insight, and expertise pertaining to conditions in the ocean freight delivery system to the Federal Maritime Commission. Specifically, the Committee advises the Commission on policies relating to the competitiveness, reliability, integrity, and fairness of the international ocean freight delivery system. 46 U.S.C. 42502(b).

Meeting Agenda: The Committee will recognize its new representatives of members and receive updates from the Data/Visibility, Fees & Surcharges, and Port Best Practices subcommittees; and the Refusal to Deal Working Group. The Committee will also provide industry updates and discuss recommendation on an Ocean Carrier Advisory Committee. The Committee will take public comment during the meeting.

Public Comment: The Committee will take public comment during its meeting and is particularly interested in receiving feedback regarding the issues in your supply chain and the issues that you want to see the Committee and the Federal Maritime Commission address.

Members of the public may also submit written comments to NSAC at any time. Comments should be addressed to NSAC, c/o Mark Bragança, Federal Maritime Commission, 800 North Capitol St. NW, Washington, DC 20573 or nsac@fmc.gov.

A copy of all meeting documentation, including meeting minutes, will be available at www.fmc.gov following the meeting.

Dated: May 15, 2025.
David Eng,
Secretary.

[FR Doc. 2025-09024 Filed 5-19-25; 8:45 am]

BILLING CODE 6730-02-P